DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Workplace Prevention and Early Intervention Transitioning Youth Into the Workplace (YIW) Cross-Site Evaluation—New

The Substance Abuse and Mental Health Services Administration's (SAMHSA), Center for Substance Abuse Prevention (CSAP) plans to conduct a cross-site evaluation of the effectiveness of workplace-based substance abuse prevention and early intervention programs for young adults (ages 16-24). These programs will be implemented by 9-10 CSAP-funded grantees and their partnering worksites. The primary purpose of the evaluation will be to study the effectiveness of modified model and effective drug-free workplace prevention and early intervention programs and interventions for incoming populations of young employees. This will provide the Nation's public and private employers with empirical information about effective strategies to utilize for these incoming employees in preventing and intervening early with substance abuse. A web-based survey will be used to collect data from employees at the participating grantee worksites at baseline and at 1- and 2-year follow-up points. The survey is composed of OMB approved CSAP's Government Performance and Results Act (GPRA) outcome measures such as prevalence of drug and alcohol use, perceptions of risk, and attitudes and beliefs and a set of supplementary questions capturing workplace outcomes such as productivity, absenteeism and accidents.

Total Burden Hours for the Cross-Site Web-Based Survey
Instrument/Activity | Number of respondents | Number of responses per respondent | Average burden hours per respondent | Total burden hours
Baseline Data Collection | 6,500 | 1 | 35 mins | 3,792
1-year Follow-up Data Collection (80% of baseline) | 5,200 | 1 | 35 mins | 3,033
2-year Follow-up Data Collection (80% of 1-year follow-up) | 4,160 | 1 | 35 mins | 2,427
Total | 15,860 |  |  | 9,252
Annualized Burden (over 3 years) | 5,287 |  |  | 3,084

Send comments to Summer King, SAMHSA Reports Clearance Officer, Room 71-1045, One Choke Cherry Road, Rockville, MD 20857. Written comments should be received within 60 days of this notice.

Dated: March 9, 2005.
Patricia S. Bransford,
Acting Executive Officer, SAMHSA.

[FR Doc. 05-5142 Filed 3-15-05; 8:45 am]

BILLING CODE 4162-20-P